DEPARTMENT OF TRANSPORTATION

Federal Aviation Administration

14 CFR Part 71

[Docket No. FAA-2006-25270; Airspace Docket No. 06-ASO-9]

Establishment of Class D Airspace; Eastman, GA; Correction

AGENCY: Federal Aviation Administration (FAA), DOT.

ACTION: Correcting amendment.

SUMMARY: This document contains a correction to the final rule (FAA-2006-25270; 06-ASO-9), which was published in the Federal Register on November 30, 2006 (71 FR 69191), establishing Class D airspace at Eastman, GA. This action corrects the effective date of the Class D airspace.

DATES: Effective Date: December 13, 2006.

FOR FURTHER INFORMATION CONTACT: Mark D. Ward, Group Manager, System Support, Eastern Service Center, Federal Aviation Administration, P.O. Box 20636, Atlanta, Georgia 30320; telephone (404) 305-5627.

SUPPLEMENTARY INFORMATION:

Background

Federal Register Document 06-9232, Docket No. FAA-2006-252760; Airspace Docket 06-ASO-9, published on November 30, 2006 (71 FR 69191), establishes Class D airspace at Eastman, GA. This action corrects the published docket.

Designations for Class D airspace are published in Paragraph 5000 of FAA Order 7400.9P, dated September 1, 2006, and effective September 15, 2006, which is incorporated by reference in 14 CFR 71.1. The Class D airspace designation listed in this document will be published subsequently in the Order.

Need for Correction

As published, the final rule contains an error, which incorrectly states the effective date of the Class D airspace. Accordingly, pursuant to the authority delegated to me, the effective date for the establishment of Class D airspace at Eastman, GA, incorporated by reference at § 71.1, 14 CFR 71.1, and published in the Federal Register on November 30, 2006 (71 FR 69191), is corrected by making the following correcting amendment.

List of Subjects in 14 CFR Part 71

Airspace, incorporation by reference, Navigation (air).

In consideration of the foregoing, the Federal Aviation Administration corrects the adopted amendment, 14 CFR part 71, by making the following correcting amendment:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Corrected]

2. The incorporation by reference in 14 CFR 71.1 or Federal Aviation Administration Order 7400.9P, Airspace Designations and Reporting Points, dated September 1, 2006, and effective September 15, 2006, is amended as follows:

Paragraph 5000 Class D Airspace.

* * * * *

ASO GA D Eastman, GA [Corrected]

On page 69191, column 2, line 4 of the Effective Date, correct the year, changing “2000” to “2007”.

* * * * *

Issued in College Park, Georgia, on December 6, 2006.
Stephen Prater,
Acting Manager, System Support Group, Eastern Service Center.

[FR Doc. 06-9662 Filed 12-12-06; 8:45 am]

BILLING CODE 4910-13-M